FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 7, 2013.

A. Federal Reserve Bank of Chicago (Colette A. Fried, Assistant Vice President) 230 South LaSalle Street, Chicago, Illinois 60690-1414:

1. Trident SBI Holdings, LLC, Trident V, L.P., Trident V Parallel Fund, L.P., Trident V Professionals Fund, L.P., Trident Capital V, L.P., Trident Capital V-PF, L.P., Stone Point GP Ltd, CD Trident V, LLC, and Charles A. Davis, all of Greenwich, Connecticut, as a group acting in concert, to acquire control of Standard Bancshares, Inc., and thereby indirectly acquire control of Standard Bank and Trust Company, both of Hickory Hills, Illinois.

B. Federal Reserve Bank of Minneapolis (Jacqueline G. King, Community Affairs Officer) 90 Hennepin Avenue, Minneapolis, Minnesota 55480-0291:

1. James and Nita Wallenfelsz, both of North Oaks, Minnesota, to acquire shares of N.A. Corporation, Roseville, Minnesota, and thereby indirectly acquire control of North American Banking Company, Roseville, Minnesota.

Board of Governors of the Federal Reserve System, December 17, 2012.
Margaret McCloskey Shanks,
Deputy Secretary of the Board.

[FR Doc. 2012-30710 Filed 12-20-12; 8:45 am]

BILLING CODE 6210-01-P